DEPARTMENT OF COMMERCE

Foreign-Trade Zones Board

[Order No. 1876]

Reorganization of Foreign-Trade Zone 32 Under Alternative Site Framework; Miami, FL

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Greater Miami Foreign-Trade Zone, Inc., grantee of Foreign-Trade Zone 32, submitted an application to the Board (FTZ Docket B-51-2012, docketed July 13, 2012; amended October 9, 2012) for authority to reorganize under the ASF with a service area that includes a portion of Miami-Dade County, Florida, within the Miami Customs and Border Protection port of entry, FTZ 32's existing Site 1 would be categorized as a magnet site, Site 2 would be removed from the zone, and Sites 3 and 4 would be categorized as usage-driven sites;

Whereas, notice inviting public comment was given in the Federal Register (77 FR 43048-43049, 7/23/2012) and the application, as amended, has been processed pursuant to the FTZ Act and the Board's regulations; and,

Whereas, the Board adopts the findings and recommendation of the examiner's report, and finds that the requirements of the FTZ Act and the Board's regulations are satisfied, and that the proposal, as amended, is in the public interest;

Now, therefore, the Board hereby orders:

The application, as amended, to reorganize FTZ 32 under the alternative site framework is approved, subject to the FTZ Act and the Board's regulations, including Section 400.13, to the Board's standard 2,000-acre activation limit for the zone, and to a three-year ASF sunset provision for usage-driven sites that would terminate authority for Sites 3 and 4 if no foreign-status merchandise is admitted for a bona fide customs purpose by December 31, 2015.

Signed at Washington, DC, this 20th day of December 2012.
Paul Piquado,
Assistant Secretary of Commerce for Import Administration, Alternate Chairman, Foreign-Trade Zones Board.

ATTEST:

Andrew McGilvray,
Executive Secretary.

[FR Doc. 2013-00160 Filed 1-7-13; 8:45 am]

BILLING CODE P